DEPARTMENT OF LABOR

Mine Safety and Health Administration

[OMB Control Number: 1219-0138]

Proposed Extension of Information Collection; Safety Standards for Underground Coal Mine Ventilation—Belt Entry Used as an Intake Air Course To Ventilate Working Sections and Areas Where Mechanized Mining Equipment Is Being Installed or Removed

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for Safety Standards for Underground Coal Mine Ventilation—Belt Entry Used as an Intake Air Course to Ventilate Working Sections and Areas Where Mechanized Mining Equipment is Being Installed or Removed.

DATES: All comments must be received by the Office of Standards, Regulations and Variances on or before August 7, 2023.

ADDRESSES: Comments concerning the information collection requirements of this notice may be sent by any of the methods listed below.

• Federal E-Rulemaking Portal: http://www.regulations.gov. Follow the on-line instructions for submitting comments for docket number MSHA-2023-0013.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal and metal and nonmetal mines.

MSHA safety standards for ventilation of underground coal mines establish additional protective measures that mine operators must follow if they want to use belt air for ventilation purposes. 30 CFR 75.350, 75.351, 75.352, and 75.371 contain paperwork requirements to ensure that mine operators are in compliance with the ventilation standards.

30 CFR 75.350(a)(2) requires that the air velocity in the belt entry must be at least 50 feet per minute. When requested by the mine operator, the district manager may approve lower velocities in the ventilation plan based on specific mine conditions.

30 CFR 75.350(b) requires that the use of air from a belt air course to ventilate a working section, or an area where mechanized mining equipment is being installed or removed, is permitted only when evaluated and approved by the district manager in the mine ventilation plan. The mine operator must include in a ventilation plan a justification that the use of air from a belt entry would afford at least the same measure of protection as where belt haulage entries are not used to ventilate working places.

30 CFR 75.350(b)(2) requires all miners to be trained annually in the basic operating principles of the AMS, including the actions required in the event of activation of any AMS alert or alarm signal. It must be conducted as part of a miner's new miner training (30 CFR 48.5), experienced miner training (30 CFR 48.6), or annual refresher training (30 CFR 48.8).

30 CFR 75.350(b)(3)(iii) sets the average concentration of respirable dust in the belt air course and requires that permanent designated areas for dust measurement must be specified and approved in the ventilation plan.

30 CFR 75.350(b)(6) requires that the ventilation plan must include the locations for measuring air quantities.

30 CFR 75.350(b)(7) and (8) requires that the air velocity in the belt entry must be at least 100 feet per minute and not exceed 1,000 feet per minute. When requested by the mine operator, the district manager may approve lower or higher velocities in the ventilation plan based on specific mine conditions.

30 CFR 75.350(c) requires that the mine ventilation plan must include the location and use of point-feed regulators, if additional intake air is added to the belt air course through a point-feed regulator.

30 CFR 75.350(d)(1) requires that the ventilation plan must include the district manager approval of a second point monitored for carbon monoxide (CO) or smoke at a distance less than 1,000 feet upwind of the point-feed regulator, based on mine specific conditions.

30 CFR 75.350(d)(5) requires that the ventilation plan must include information regarding the location(s) and use of point-feed regulator(s) if the air through the point-feed regulator enters a belt air course. The location(s) and use of point-feed regulator(s) must be shown on the mine ventilation map.

30 CFR 75.351(b)(3) requires a mine operator to post a map or schematic, at a designated surface location, which shows the locations and type of Atmospheric Monitoring System (AMS) sensors at each location and the intended air flow direction at these locations. This map or schematic must be updated within 24 hours of any change in this information.

30 CFR 75.351(b)(4) requires that contact information for AMS operator and other appropriate personnel must be provided at the designated surface location.

30 CFR 75.351(e) requires that the locations in any entry that is part of the belt air course to be specified in the mine ventilation plan.

30 CFR 75.351(i)(2) establishes that reduced alert and alarm setting approved by the district manager may be required for carbon monoxide sensors identified in the mine ventilation plan.

30 CFR 75.351(j) requires approved carbon monoxide ambient levels and the means to determine those levels in the mine ventilation plan.

30 CFR 75.351(m) permits a mine to incorporate time delays into the AMS, when a demonstrated need exists. These time delays must only be used to account for non-fire related carbon monoxide alert and alarm sensor signals. These time delays are limited to no more than three minutes. The use and length of any time delays, or other techniques or methods which eliminate or reduce the need for time delays, must be specified and approved in the mine ventilation plan.

30 CFR 75.351(n)(2) and 30 CFR 75.351(n)(3) require that alarms for AMS be tested every 7 days and carbon monoxide, smoke, or methane sensors be calibrated every 31 days, respectively.

30 CFR 75.351(o)(1)(i) requires that a record be made if the AMS emits an alert or alarm signal. The record would consist of the date, time, location, and type of sensor, and the reason for its activation.

30 CFR 75.351(o)(1)(ii) requires that, if an AMS malfunctions, a record be made of the date, the extent and cause of the malfunction, and the corrective action taken to return the system to proper operating condition.

30 CFR 75.351(o)(1)(iii) requires that the persons doing the weekly test of alert and alarm signals, the monthly calibration, or maintenance of the system make a record of these tests, calibrations, or maintenance.

30 CFR 75.351(o)(2) requires the recordkeeper entering the record must include their name, date and signature in the record.

30 CFR 75.351(o)(3) requires that all records concerning the AMS be kept in a book or electronically in a computer system that is secure and not susceptible to alteration.

30 CFR 75.351(p) requires the mine operator to keep these records for at least one year at a surface location and to make them available for inspection by authorized representatives of the Secretary and representatives of miners.

30 CFR 75.351(q)(1) requires that all AMS operators must be trained annually in the proper operation of the AMS.

30 CFR 75.351(q)(3) requires that a record of annual AMS operator training be kept. The record includes the content of training, the person conducting the training, and the date the training was conducted. The record needs to be maintained at the mine site by the mine operator for at least one year.

30 CFR 75.352(a), (b), and (c) require the designated AMS operator or other appropriate personnel to notify, investigate, or evacuate when malfunction, alert, or alarm signals are received.

30 CFR 75.352(e) requires that immediate action must be taken to return the system to proper operation if any components of the AMS malfunctions or are inoperative.

30 CFR 75.352(e)(7) allows continuous operation of the belt when the AMS components are made for those AMSs using sensors other than carbon monoxide sensors, when an alternative detector and the alert and alarm levels associated with that detector must be specified the in the approved mine ventilation plan.

30 CFR 75.371(hh) requires reporting within the mine ventilation plan of the “ambient level in parts per million of carbon monoxide, and the method for determining the ambient level, in all areas where carbon monoxide sensors are installed.”

30 CFR 75.371(ii) requires the ventilation plan to include the locations (designated areas) where dust measurements would be made in the belt entry when belt air is used to ventilate working sections or areas where mechanized mining equipment is being installed or removed, in accordance with 30 CFR 75.350(b)(3).

30 CFR 75.371(jj) requires the location and approved velocities at dust measurement locations where air velocities in the belt entry are above or below the limits in accordance with 30 CFR 75.350(a)(2) or 30 CFR 75.350(b)(7) and 30 CFR 75.350(b)(8).

30 CFR 75.371(kk) requires the locations where air quantities are measured in accordance with 30 CFR 75.350(b)(6) be included in the mine ventilation plan.

30 CFR75.371(ll) requires the locations and use of point feed regulators, in accordance with 30 CFR 75.350(c) and (d)(5), to be in the mine ventilation plan.

30 CFR 75.371(mm) requires the location of any diesel-discriminating sensor and additional carbon monoxide or smoke sensors installed in the belt air course to be included in the mine ventilation plan.

30 CFR 75.371(nn) requires modification of the mine ventilation plan to show the length of the time delay or any other method used for the lower non-fire related alert and alarm setting for carbon monoxide sensors.

30 CFR 75.371(oo) requires modification of the mine ventilation plan to show the lower alert and alarm setting for carbon monoxide sensors, in accordance with 30 CFR 75.351(i)(2).

30 CFR 75.371(pp) requires modification of the mine ventilation plan to show the alternate detector and the alert and alarm levels associated with the detector, in accordance with 30 CFR 75.352(e)(7).

II. Desired Focus of Comments

MSHA is soliciting comments concerning the proposed information collection related to Safety Standards for Underground Coal Mine Ventilation—Belt Entry Used as an Intake Air Course to Ventilate Working Sections and Areas Where Mechanized Mining Equipment is Being Installed or Removed. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, 201 12th South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This request for collection of information contains provisions for Safety Standards for Underground Coal Mine Ventilation—Belt Entry Used as an Intake Air Course to Ventilate Working Sections and Areas Where Mechanized Mining Equipment is Being Installed or Removed. MSHA has updated the data with respect to the number of respondents, responses, burden hours, and burden costs supporting this information collection request.

Type of Review: Extension, without change, of a currently approved collection.

Agency: Mine Safety and Health Administration.

OMB Number: 1219-0138.

Affected Public: Business or other for-profit.

Number of Respondents: 14.

Frequency: On occasion.

Number of Responses: 157.

Annual Burden Hours: 656 hours.

Annual Respondent or Recordkeeper Cost: $280.

Respondents or Recordkeeping Costs: The estimated annual cost decreased from $38,640 to $280 due to changes in cost assumptions.

Comments submitted in response to this notice will be summarized and included in the request for Office of Management and Budget approval of the information collection request; they will also become a matter of public record.

Song-ae Aromie Noe,
Certifying Officer, Mine Safety and Health Administration.

[FR Doc. 2023-12146 Filed 6-6-23; 8:45 am]

BILLING CODE 4510-43-P